DEPARTMENT OF COMMERCE

National Oceanic and Atmospheric Administration

[RTID 0648-XF016]

Caribbean Fishery Management Council; Public Virtual Meeting

AGENCY: National Marine Fisheries Service (NMFS), National Oceanic and Atmospheric Administration (NOAA), Commerce.

ACTION: Notice of a public virtual meeting.

SUMMARY: The Caribbean Fishery Management Council's (Council) Outreach and Education Advisory Panel (OEAP) will hold a public virtual meeting to discuss the items contained in the agenda in the SUPPLEMENTARY INFORMATION.

DATES: The OEAP virtual meeting will be held on July 23, 2025, from 9:00 a.m. to 3:00 p.m.

ADDRESSES: You may join the OEAP public virtual meeting (via Zoom) from a computer, tablet or smartphone by entering the following address:

OEAP Zoom Meeting

Topic: OEAP.

Time: This is a recurring meeting Meet anytime.

Join Zoom Meeting: https://us02web.zoom.us/j/84039986774?pwd=SUhDc1hXeFloQWF3ajVtL2ZHRGN3Zz09.

Meeting ID: 840 3998 6774.

Passcode: 179728.

One tap mobile:

+17879667727,,84039986774#,,,,*179728# Puerto Rico

+19399450244,,84039986774#,,,,*179728# Puerto Rico

Dial by your location:

+1 787 966 7727 Puerto Rico

+1 939 945 0244 Puerto Rico

+1 787 945 1488 Puerto Rico

+1 669 900 6833 US (San Jose)

+1 929 205 6099 US (New York)

+1 253 215 8782 US (Tacoma)

+1 301 715 8592 US (Washington DC)

+1 312 626 6799 US (Chicago)

+1 346 248 7799 US (Houston)

Meeting ID: 840 3998 6774.

Passcode: 179728.

FOR FURTHER INFORMATION CONTACT: Diana Martino (787) 226-8849, Caribbean Fishery Management Council, 270 Muñoz Rivera Avenue, Suite 401, San Juan, PR 00918-1903.

SUPPLEMENTARY INFORMATION:

July 23, 2025

9:00 a.m.

—Call to Order

Adoption of Agenda

9:15 a.m.-9:45 a.m.

—OEAP Chairperson's Report—Jannette Ramos García

9:45 a.m.-10:15 a.m.

—Liaison Reports

• Wilson Santiago Soler, Puerto Rico Liaison Officer

• Nicole Greaux, St. Thomas/St. John Liaison Officer

• Liandry de la Cruz, St. Croix Liaison Officer

10:15 a.m.-10:30 a.m.

—CFMC Social Media Report

• Cristina D. Olán Martínez, CFMC Social Media Network Coordinator

10:30 a.m.-10:45 a.m.

—Break

10:45 a.m.-12:00 p.m.

—Descending Device Outreach Efforts and Needs

• Wilson Santiago Soler, Puerto Rico Liaison Officer

• Nicole Greaux, St. Thomas/St. John Liaison Officer

12:00 p.m.-1:00 p.m.

—Lunch Break

1:00 p.m.-1:30 p.m.

—Calendar 2026

1:30 p.m.-2:30 p.m.

New Outreach Materials

2:30 p.m.-3:00 p.m.

—Other Business

The order of business may be adjusted as necessary to accommodate the completion of agenda items. The meeting will begin on July 23, 2025 at 9:00 a.m. and will end on July 23, 2025, at 3:00 p.m. Other than the start time, interested parties should be aware that discussions may start earlier or later than indicated. In addition, the meeting may be extended from, or completed prior to the date established in this notice.

Special Accomodations

For any additional information on this public virtual meeting, please contact Diana Martino, Caribbean Fishery Management Council, 270 Muñoz Rivera Avenue, Suite 401, San Juan, PR 00918-1903; telephone: (787) 226-8849.

Authority: 16 U.S.C. 1801 et seq.

Dated: July 8, 2025.
Rey Israel Marquez,
Acting Deputy Director, Office of Sustainable Fisheries, National Marine Fisheries Service.

[FR Doc. 2025-12902 Filed 7-9-25; 8:45 am]

BILLING CODE 3510-22-P